DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 70, No. 249, pp. 77159-77168, dated Thursday, December 29, 2005) is amended to reflect the establishment of the Office of Beneficiary Information Services.

Part F. is described below:

• Section F.10. (Organization) reads as follows:

1. Office of External Affairs (FAC).

2. Center for Beneficiary Choices (FAE).

3. Office of Legislation (FAF).

4. Center for Medicare Management (FAH).

5. Office of Equal Opportunity and Civil Rights (FAJ).

6. Office of Research, Development, and Information (FAK).

7. Office of Clinical Standards and Quality (FAM).

8. Office of the Actuary (FAN).

9. Center for Medicaid and State Operations (FAS).

10. Office of the Boston Regional Administrator (FAU1).

11. Office of the New York Regional Administrator (FAU2).

12. Office of the Philadelphia Regional Administrator (FAU3).

13. Office of the Atlanta Regional Administrator (FAV4).

14. Office of the Chicago Regional Administrator (FAW5).

15. Office of the Dallas Regional Administrator (FAV6).

16. Office of the Kansas City Regional Administrator (FAW7).

17. Office of the Denver Regional Administrator (FAX8).

18. Office of the San Francisco Regional Administrator (FAX9).

19. Office of the Seattle Regional Administrator (FAXX).

20. Office of Operations Management (FAY).

21. Office of Information Services (FBB).

22. Office of Financial Management (FBC).

23. Office of Strategic Operations and Regulatory Affairs (FGA).

24. Office of E-Health Standards and Services (FHA).

25. Office of Acquisition and Grants Management (FKA).

26. Office of Policy (FLA).

27. Office of Beneficiary Information Services (FMA).

• Section F.20. (Functions) reads as follows:

27. Office of Beneficiary Information Services (FMA).

• Develops, implements, and manages the national Medicare toll-free telephone service contractors, including Medicare intermediary and carrier call center operations.

• Develops integrated national strategies, tools, and techniques for improving telephone and Medicare beneficiary customer services.

• Designs and develops national oversight standards for call center and Medicare beneficiary customer service contractors. Evaluates, assesses, and monitors performance of contractors in order to ensure compliance with contract requirements and the Federal Managers' Financial Integrity Act.

• Analyzes call center and Medicare beneficiary customer service operational data so as to establish trends and best practices for use in the development of national polices, legislation, national reports, presentations, and briefings for all levels of management in CMS for internal and external use.

• Develops, implements, and oversees the national implementation of Medicare contractor generated beneficiary communications and related services; e.g., the Medicare Summary Notice.

• Develops policy, regulations, and legislative directives affecting Medicare contractor beneficiary customer services and develops program instructions to put legislative directives into operation.

• Works with the industry to keep apprised of state-of-the-art customer service strategies and technological advances in call center/network infrastructures in order to ensure continuous improvements in communications and processes.

• Serves as the national spokesperson on call center operations and ensures translation and understandable presentation of technical materials.

• Manages and maintains the Agency's public Web sites to ensure the presentation of accurate, timely, relevant, understandable, and easily accessible information.

• Coordinates the formulation of Web site policies, strategies, goals, and standards for http://www.medicare.gov and http://www.cms.hhs.gov.

• Publishes instructional information for Agency's public Web site developers including functional specifications to facilitate program design, implementation, evaluation, revision, and/or update.

• Manages Web site information display and dissemination strategies.

Dated: June 18, 2007.
Karen Pelham O'Steen,
Director, Office of Operations Management, Centers for Medicare & Medicaid Services.

[FR Doc. E7-12359 Filed 6-26-07; 8:45 am]

BILLING CODE 4120-01-P